ENVIRONMENTAL PROTECTION AGENCY

40 CFR Part 52

[MD120-3071b ; FRL-7100-1]

Approval and Promulgation of Air Quality Implementation Plans; Maryland; VOC RACT Determinations for the Thomas Manufacturing Corporation in the Baltimore Ozone Nonattainment Area

AGENCY: Environmental Protection Agency (EPA).

ACTION: Proposed rule.

SUMMARY: EPA proposes to approve the State Implementation Plan (SIP) revision submitted by the State of Maryland for the purpose of establishing and requiring reasonably available control technology (RACT) for the Thomas Manufacturing Corporation, a major source of volatile organic compounds (VOC) in the State of Maryland. This source is located in the Baltimore ozone nonattainment area. In the final rules section of this Federal Register, EPA is approving the State's SIP revision as a direct final rule without prior proposal because the Agency views this as a noncontroversial submittal and anticipates no adverse comments. The rationale for the approval is set forth in the direct final rule. If no adverse comments are received in response to this action, no further activity is contemplated. If EPA receives adverse comments, the direct final rule will be withdrawn and all public comments received will be addressed in a subsequent final rule based on this proposed rule. EPA will not institute a second comment period.

DATES: Comments must be received in writing by December 17, 2001.

ADDRESSES: Written comments should be addressed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland 21224.

FOR FURTHER INFORMATION CONTACT: Catherine L. Magliocchetti at (215) 814-2174, the EPA Region III address above or by e-mail at magliocchetti.catherine@epa.gov. Please note that while questions may be posed via telephone and e-mail, formal comments must be submitted, in writing, as indicated in the ADDRESSES section of this document.

SUPPLEMENTARY INFORMATION: For further information, please see the information provided in the direct final action, Approval and Promulgation of Air Quality Implementation Plans; Maryland; VOC RACT Determinations for the Thomas Manufacturing Corporation in the Baltimore Ozone Nonattainment Area, that is located in the “Rules and Regulations” section of this Federal Register publication.

Dated: October 31, 2001.
Thomas Voltaggio,
Acting Regional Administrator, Region III.

[FR Doc. 01-28188 Filed 11-14-01; 8:45 am]

BILLING CODE 6560-50-P